FEDERAL MARITIME COMMISSION

Sunshine Act Meeting

Agency Holding the Meeting: Federal Maritime Commission.

Time and Date: 10 a.m.—December 14, 2004.

Place: 800 North Capitol Street, NW., First Floor Hearing Room, Washington, DC.

Status: The meeting will be open to the public.

Matters To Be Considered: 1. Docket No 04-12—Non-Vessel-Operating Common Carrier Service Arrangements

FOR FURTHER INFORMATION CONTACT: Bryant L. VanBrakle, Secretary, (202) 523-5725.

Bryant L. VanBrakle,
Secretary.

[FR Doc. 04-27131 Filed 12-7-04; 11:00 am]

BILLING CODE 6730-01-P